DEPARTMENT OF JUSTICE

Notice of Lodging of Stipulation and Order Pursuant to Safe Drinking Water Act and Resource Recovery and Conservation Act

Notice is hereby given that on February 12, 2007, a proposed settlement in United States v. Martin Ain, Civil No. 04-2912, has been lodged with the United States District Court for the Eastern District of New York.

In this action, the United States sued Ain for violations of the Safe Drinking Water Act (“SDWA”), 42 U.S.C. 300h, et seq., and the Solid Waste Disposal Act, as amended by the Resource Conservation and Recovery Act and the Hazardous and Solid Waste Amendments of 1984 (“RCRA”), 42 U.S.C. 6901 et seq., in connection with the injection of fluids into wells on a property located at 257/259 Main Street, Town of Hempstead, New York, the failure to determine if contaminated soils and sludges were hazardous wastes and the failure to respond adequately to U.S. Environmental Protection Agency information requests. Ain has come into compliance with SDWA and RCRA. The settlement requires Ain to pay a civil penalty of $80,000.

The Department of Justice will receive for a period of thirty (30) days from the date of this publication comments relating to the settlement. Comments should be addressed to the Assistant Attorney General, Environmental and Natural Resources Division, P.O. Box 7611, U.S. Department of Justice, Washington, DC 20044-7611, and should refer to U.S. v. Martin Ain, D.J. Ref. 90-5-1-1-07662.

The settlement may be examined at the Office of the United States Attorney, Eastern District of New York, 610 Federal Plaza, Central Islip, New York 11722, and at the Region II Office of the U.S. Environmental Protection Agency, Region II Records Center, 290 Broadway, 17th Floor, New York, NY 10007-1866. During the public comment period, the settlement may also be examined on the following Department of Justice Web site: http://www.usdoj.gov/enrd/Consent_Decrees.html. A copy of the settlement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.00 (25 cents per page production cost) payable to the U.S. Treasury or, if by e-mail or fax, forward a check in that amount to the Consent Decree Library at the stated address.

Ronald Gluck,
Assistant Chief, Environmental Enforcement Section, Environmental and Natural Resources Division.

[FR Doc. 07-908 Filed 2-28-07; 8:45 am]

BILLING CODE 4410-15-M